ENVIRONMENTAL PROTECTION AGENCY

[FRL-8697-9]

Science Advisory Board Staff Office; Clean Air Scientific Advisory Committee (CASAC); Notification of a Public Advisory Committee Meeting of the CASAC Oxides of Nitrogen Primary NAAQS Review Panel

AGENCY: Environmental Protection Agency (EPA).

ACTION: Notice.

SUMMARY: The Environmental Protection Agency (EPA) Science Advisory Board (SAB) Staff Office announces a public meeting of the Clean Air Scientific Advisory Committee's (CASAC) Oxides of Nitrogen Primary NAAQS Review Panel (Panel) to conduct a peer review of the EPA's Risk and Exposure Assessment to Support the Review of the NO2 Primary National Ambient Air Quality Standard: Second Draft.

DATES: The meeting will be held from 8:30 a.m. (Eastern Time) on Tuesday, September 9, 2008 through 2 p.m. (Eastern Time) on Wednesday, September 10, 2008.

ADDRESSES: The September 9-10, 2008 meeting will take place at the Marriott at Research Triangle Park, 4700 Guardian Drive, Durham, NC 27703, telephone (919) 941-6200.

FOR FURTHER INFORMATION CONTACT: Any member of the public who wishes to submit a written or brief oral statement (five minutes or less) or wants further information concerning this meeting must contact Dr. Angela Nugent, Designated Federal Officer (DFO), EPA Science Advisory Board (1400F), U.S. Environmental Protection Agency, 1200 Pennsylvania Avenue, NW., Washington, DC 20460; via telephone/voice mail (202) 343-9981; fax (202) 233-0643; or e-mail at nugent.angela@epa.gov. General information concerning the CASAC and the CASAC documents cited below can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including oxides of nitrogen (NOX). EPA is in the process of reviewing the primary NAAQS for nitrogen dioxide (NO2) as an indicator for NOX. Primary standards set limits to protect public health, including the health of “sensitive” populations such as asthmatics, children, and the elderly.

CASAC has previously provided consultative advice on EPA's Integrated Review Plan for the Primary National Ambient Air Quality Standard for Nitrogen Dioxide (August 2007) and conducted peer review of the first and second drafts of EPA's Integrated Science Assessment for Oxides of Nitrogen—Health Criteria. CASAC also provided consultative advice on EPA's Nitrogen Dioxide Health Assessment Plan: Scope and Methods for Exposure and Risk Assessment and conducted peer review of EPA's Risk and Exposure Assessment to Support the Review of the NO2 Primary National Ambient Air Quality Standard: First Draft. The CASAC advisory reports are available on the EPA Web site at http://www.epa.gov/casac. The purpose of this meeting is for CASAC to conduct a peer review of the Risk and Exposure Assessment to Support the Review of the NO2 Primary National Ambient Air Quality Standard: Second Draft.

Technical Contact: Any questions concerning EPA's Risk and Exposure Assessment to Support the Review of the NO2 Primary National Ambient Air Quality Standard: Second Draft should be directed to Dr. Scott Jenkins, OAR (by telephone (919) 541-1167, or e-mail jenkins.scott@epa.gov.

Availability of Meeting Materials: EPA-OAR's Risk and Exposure Assessment to Support the Review of the NO2 Primary National Ambient Air Quality Standard: Second Draft will be accessible via the Agency's Office of Air Quality Planning and Standards Web site at http://www.epa.gov/ttn/naaqs/standards/nox/s_nox_cr_rea.html on or about August 12, 2008. Agendas and materials supporting the meeting will be placed on the EPA Web site at http://www.epa.gov/casac before the meeting.

Procedures for Providing Public Input: Interested members of the public may submit relevant written or oral information for the CASAC Panel to consider during the advisory process. Oral Statements: In general, individuals or groups requesting an oral presentation at a public meeting will be limited to five minutes per speaker, with no more than a total of one hour for all speakers. Interested parties should contact Dr. Angela Nugent, DFO, in writing (preferably via e-mail) by September 2, 2008 at the contact information noted above to be placed on the public speaker list for this meeting.

Written Statements: Written statements for the public meeting should be received by Dr. Angela Nugent at the contact information above by September 2, 2008, so that the information may be made available to the Panel for their consideration prior to this meeting. Written statements should be supplied to the DFO in the following formats: one hard copy with original signature (optional), and one electronic copy via e-mail (acceptable file format: Adobe Acrobat PDF, MS Word, MS PowerPoint, or Rich Text files in IBM-PC/Windows 98/2000/XP format).

Accessibility: For information on access or services for individuals with disabilities, please contact Dr. Nugent at the phone number or e-mail address noted above, preferably at least ten days prior to the meeting, to give EPA as much time as possible to process your request.

Dated: July 21, 2008.
Anthony F. Maciorowski,
Deputy Director, EPA Science Advisory Board Staff Office.

[FR Doc. E8-17093 Filed 7-24-08; 8:45 am]

BILLING CODE 6560-50-P